FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 200866-002.

Title: Broward-King Ocean Marine Terminal Agreement.

Parties: Broward County, Board of County Commissioners, King Ocean Service de Venezuela, S.A.

Synopsis: The proposed amendment revises the minimum use standards and the charges covered by the agreement. It also adapts the language of the agreement to comply with current state and county law and regulations.

By Order of the Federal Maritime Commission.
Dated: February 21, 2003.
Bryant L. VanBrakle,
Secretary.

[FR Doc. 03-4558 Filed 2-25-03; 8:45 am]

BILLING CODE 6730-01-P